DEPARTMENT OF THE INTERIOR

National Park Service

[NPS-WASO-NAGPRA-NPS0032394; PPWOCRADN0-PCU00RP14.R50000]

Notice of Inventory Completion: Peabody Museum of Archaeology and Ethnology, Harvard University, Cambridge, MA

AGENCY: National Park Service, Interior.

ACTION: Notice.

SUMMARY: The Peabody Museum of Archaeology and Ethnology, Harvard University (Peabody Museum) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Peabody Museum. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Peabody Museum at the address in this notice by September 10, 2021.

FOR FURTHER INFORMATION CONTACT: Patricia Capone, Peabody Museum of Archaeology and Ethnology, Harvard University, 11 Divinity Avenue, Cambridge, MA 02138, telephone (617) 496-3702, email pcapone@fas.harvard.edu.

SUPPLEMENTARY INFORMATION: Notice is here given in accordance with the Native American Graves Protection and Repatriation Act (NAGPRA), 25 U.S.C. 3003, of the completion of an inventory of human remains and associated funerary objects under the control of the Peabody Museum of Archaeology and Ethnology, Harvard University, Cambridge, MA. The human remains and associated funerary objects were removed from sites in Cumberland, Hancock, Kennebec, Knox, and Lincoln Counties, ME.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Peabody Museum of Archaeology and Ethnology professional staff in consultation with representatives of the Aroostook Band of Micmacs [previously listed as Aroostook Band of Micmac Indians]; Houlton Band of Maliseet Indians; Passamaquoddy Tribe; and the Penobscot Nation [previously listed as Penobscot Tribe of Maine] (hereafter referred to as “The Tribes.”)

History and Description of the Remains

At an unknown date, human remains representing, at minimum, four individuals were removed from Flying Point in Freeport, Cumberland County, ME, by Dr. J. C. or J. E. Porter. Porter donated the human remains to the Peabody Museum on August 27, 1953. No known individuals were identified. No associated funerary objects are present.

At an unknown date, human remains representing, at minimum, three individuals were removed from Maine State Site #8-1, in a marsh in Scarborough, Cumberland County, ME, by W. W. Lord. Lord donated the human remains to the Robert S. Peabody Institute, then known as the Robert S. Peabody Foundation, at an unknown date. The Robert S. Peabody Foundation donated the human remains to the Peabody Museum on February 1, 1956. No known individuals were identified. No associated funerary objects are present.

Around 1888, human remains representing, at minimum, one individual were removed from a burial place in Prout's Neck near Scarborough Beach in Cumberland County, ME, by an unknown person. At an unknown date, Ruthven Deaide received the human remains. In 1906, Deaide donated the human remains to the Peabody Museum. No known individual was identified. No associated funerary objects are present, though copper stains are present on the individual's metacarpals, suggesting that the individual was interred wearing finger rings or jewelry on the hands.

At an unknown date, human remains representing, at minimum, one individual were removed from an unknown place in Prout's Neck in Cumberland County, ME, by an unknown person. At an unknown date, H.T. Deane received the human remains. In 1912, Deane donated the human remains to the Peabody Museum. No known individual was identified. No associated funerary objects are present.

At an unknown date, human remains representing, at minimum, one individual were removed from Burial A in Grave 4 in a shell heap on the south end of Deer Island in Hancock County, ME, by Manley Hardy. In November 1877, Hardy donated the human remains to the Peabody Museum. No known individual was identified. No associated funerary objects are present.

At an unknown date, human remains representing, at minimum, two individuals were removed from a shell heap on the south end of Deer Island in Hancock County, ME, by Manley Hardy. In November 1877, Hardy donated the human remains to the Peabody Museum. No known individuals were identified. No associated funerary objects are present.

In May 1878, human remains representing, at minimum, one individual were removed from Maine State Site #30-15, a shell heap on Deer Island in Hancock County, ME, by Manly Hardy as part of a Peabody Museum expedition. The Peabody Museum received the human remains in June 1878. No known individual was identified. No associated funerary objects are present.

At an unknown date, human remains representing, at minimum, one individual were removed from Bar Harbor in Hancock County, ME, by an unknown person. An unknown person at an unknown date presented the human remains to the Peabody Museum, where they were accessioned on July 23, 1937. No known individual was identified. No associated funerary objects are present.

Between 1936 and 1937, human remains representing, at minimum, 43 individuals were removed from the Nevin site at Blue Hill (Maine State Site #42-1) in Hancock County, ME, by Douglas S. Byers and Frederick Johnson as part of a Robert S. Peabody Foundation expedition. The Robert S. Peabody Foundation loaned some of the human remains to the Peabody Museum on March 24, 1941 and converted the loan to a gift on June 28, 1989. The Robert S. Peabody Foundation donated the remaining human remains to the Peabody Museum on August 8, 1997. No known individuals were identified. The 462 associated funerary objects are four stone adzes; two antler tools; nine birch bark fragments; one pileated woodpecker beak; 16 beaver teeth and tooth fragments; one stone biface; 188 faunal remains, teeth, and bone fragments; 31 animal teeth and fragments; one antler flaking tool; one bone flaking tool; one bird bone flute; three harpoon foreshafts; three stone gouges; six hammerstones; four animal teeth, incisors; two mink jaw fragments; one modified mineral fragment, iron; one red ochre and soil; two bone pendants; 34 perforated animal teeth and fragments; 100 perforators, awls, daggers, pikes, knives, and needles of bone, including fragments; six stone plummets; two bone points; two stone bayonets and fragments; nine bone harpoons; one stone projectile point; one polishing stone; nine iron pyrites; one scraper or flesher of bone; two soil samples; one swordfish rostrum; one deer antler socket; one unmodified stone; 12 porpoise vertebrae and fragments; and three hammerstone and iron pyrites with fragments. The 462 objects are the possession and control of the Robert S. Peabody Institute of Archaeology, Andover, MA. (The Robert S. Peabody Institute of Archaeology continues to look for the 52 missing associated funerary objects, which are two beaver teeth, three bifaces, four animal bone fragments, one stone gouge, 18 miscellaneous faunal remains, 16 perforated animal tooth fragments, six bone perforators, and two bone points.)

In 1895, human remains representing, at minimum, one individual were removed from Maine State Site #58-2 in Hancock County, ME, by Charles C. Willoughby as part of a Peabody Museum expedition. No known individual was identified. The three associated funerary objects are one lot of copper beads, copper bead fragments, and leather fragments; one lot of charcoal and burned bone fragments; and one lot of birch bark fragments.

In 1895, human remains representing, at minimum, one individual were removed from Maine State Site #58-2 in Hancock County, ME, by Charles C. Willoughby as part of a Peabody Museum expedition. No known individual was identified. No associated funerary objects are present.

In 1884, human remains representing, at minimum, one individual were removed from an unknown site in Lamoine in Hancock County, ME, by an unknown person from whom John E. Clark acquired the human remains. Clark donated the human remains to the Peabody Museum in December 1884. No known individual was identified. No associated funerary objects are present.

At an unknown date, human remains representing, at minimum, seven individuals were removed from an unknown site in Lamoine in Hancock County, ME, by Elijah R. Emerson. Emerson donated the human remains to the Peabody Museum in 1892. No known individuals were identified. No associated funerary objects are present.

At an unknown date, human remains representing, at minimum, one individual were removed from a shell heap on Sheldrake Island (Maine State Site #44-11) in Hancock County, ME, by Arlo Bates. Bates donated the human remains to the Peabody Museum in 1907. No known individual was identified. No associated funerary objects are present.

At an unknown date, human remains representing, at minimum, two individuals were removed from a shell heap on Taft Point (Maine State Site #44-6) in Hancock County, ME, by Arlo Bates. Bates donated the human remains to the Peabody Museum in 1907. No known individuals were identified. No associated funerary objects are present.

In the summer of 1966, human remains representing, at minimum, one individual were removed from an unknown site in Benton in Kennebec County, ME, by Donaldson Koons. Koons donated the human remains to the Peabody Museum in March 1967 through Douglas S. Byers at the Phillips Academy in Andover, MA. No known individual was identified. No associated funerary objects are present.

At an unknown date, human remains representing, at minimum, three individuals were removed from Maine State Site #53-3 in Kennebec County, ME, by Elijah R. Emerson. Emerson donated the human remains to the Peabody Museum in 1892. No known individuals were identified. No associated funerary objects are present.

In June 1884, human remains representing, at minimum, one individual were removed from the Crotch Island shell heap (Maine State Site #17-1) in Knox County, ME, by Albert I. Phelps as part of a Peabody Museum Expedition directed by Frederic Ward Putnam. No known individual was identified. No associated funerary objects are present.

In 1883, human remains representing, at minimum, one individual were removed from the Davis Point shell heap (Maine State Site #17-3) in Knox County, ME, by Warren Morse. James E. Knowlton donated the human remains to the Peabody Museum on May 31, 1884. No known individual was identified. The nine associated funerary objects are five bone points, three chipped stone implements, and one stone pestle. The associated funerary objects are not in the possession or control of the Peabody Museum.

At an unknown date, human remains representing, at minimum one individual were removed from a shell heap (Maine State Site #30-79) in Knox County, ME, by Arlo Bates. Arlo and Oric Bates donated the human remains to the Peabody Museum in 1919. No known individual was identified. No associated funerary objects are present.

In 1911, human remains representing, at minimum, four individuals were removed from shell heaps in Knox County, ME, by Arlo Bates and donated to the Peabody Museum. No known individuals were identified. No associated funerary objects are present.

In 1939, human remains representing, at minimum, three individuals were removed from a site on Lane's Island (Maine State Site #29-1) in Knox County, ME, by young men who discovered the human remains by accident. The individuals who discovered the remains may have included Kenneth Snowdeal, John Gordon, and Gust Carlson. H. J. Weisman took possession of the human remains and donated them to the Peabody Museum on May 26, 1939. No known individuals were identified. The 15 associated funerary objects are 13 animal bones and two shells. The associated funerary objects are not in the possession or control of the Peabody Museum.

In September 1884, human remains representing, at minimum, one individual were removed from E. Stetson's field in Lincoln County, ME, by Albert I. Phelps as part of a Peabody Museum expedition under the direction of Frederic Ward Putnam. No known individual was identified. No associated funerary objects are present.

At an unknown date, human remains representing, at minimum, three individuals were removed from A. K. Hodgsdon's Field in Lincoln County, ME, by Abram T. Gamage. Gamage donated the human remains to the Peabody Museum in 1898. No known individuals were identified. No associated funerary objects are present.

At an unknown date, human remains representing, at minimum, one individual were removed from a site on Spectacle Island (Maine State Site #16-57a or #16-57b) in Lincoln County, ME, by Abram T. Gamage. Gamage donated the human remains to the Peabody Museum in 1898. No known individual was identified. No associated funerary objects are present.

At an unknown date, human remains representing, at minimum, one individual were removed from a shell heap on Hog Island in Lincoln County, ME, by Elijah R. Emerson. Emerson donated the human remains to the Peabody Museum around 1892. No known individual was identified. No associated funerary objects are present.

In 1872, human remains representing, at minimum, two individuals were removed from the bank of Damariscotta River, about one mile from Damariscotta Bridge (Maine State Site #16-169), in Lincoln County, ME, by Samuel Kneeland. Kneeland donated the human remains to the Peabody Museum in October 1872. No known individuals were identified. No associated funerary objects are present.

In 1882, human remains representing, at minimum, one individual were removed from a shell heap on Fort Island (Maine State Site #16-17) in Lincoln County, ME, by Abram T. Gamage. Gamage donated the human remains to the Peabody Museum on January 10, 1882. No known individual was identified. No associated funerary objects are present.

In 1882, human remains representing, at minimum, one individual were removed from a shell heap on Fort Island (Maine State Site #16-17) in Lincoln County, ME, by Abram T. Gamage. R. C. Chapman donated the human remains to the Peabody Museum on September 20, 1882. No known individual was identified. No associated funerary objects are present.

Between August and October 1886, human remains representing, at minimum, 12 individuals were removed from the Whaleback shell mound (Maine State Site #26-2) in Lincoln County, ME, by Abram T. Gamage as part of a Peabody Museum expedition under the direction of Frederic Ward Putnam. No known individuals were identified. Excavation notes indicated that the bones of a wolf were found with one individual, but no faunal remains were accessioned with the human remains. The associated funerary objects are not in the possession or control of the Peabody Museum.

On September 18, 1882, human remains representing, at minimum, one individual were removed from a bank at the north end of Loud's Island (Maine State Site #17-102) in Lincoln County, ME, by Frederic Ward Putnam as part of a Peabody Museum expedition under the direction of Putnam and Charles L. Metz. No known individual was identified. No associated funerary objects are present.

At an unknown date, human remains representing, at minimum, three individuals were removed from the Great Oyster Heap site (Maine State Site #26-1) in Lincoln County, ME, by Charles Metcalf. Metcalf donated the human remains to the Peabody Museum through R. C. Chapman around 1882. No known individuals were identified. No associated funerary objects are present.

In 1931 or 1935, human remains representing, at minimum, one individual were removed from the Hight site in Lincoln County, ME, by Frederick P. Orchard. Orchard donated the human remains to the Peabody Museum on March 1, 1940. No known individual was identified. No associated funerary objects are present.

Determinations Made by the Peabody Museum of Archaeology and Ethnology, Harvard University

Officials of the Peabody Museum of Archaeology and Ethnology, Harvard University have determined that:

• Pursuant to 25 U.S.C. 3001(9), the human remains described in this notice are Native American based on osteological analysis, and/or archeological contexts and museum records.

• Pursuant to 25 U.S.C. 3001(9), the human remains described in this notice represent the physical remains of 111 individuals of Native American ancestry.

• Pursuant to 25 U.S.C. 3001(3)(A), the three objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, Executive Orders, or other authoritative governmental sources indicate that the land from which the Native American human remains and associated funerary objects were removed is the aboriginal land of The Tribes.

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Patricia Capone, Peabody Museum of Archaeology and Ethnology, Harvard University, 11 Divinity Avenue, Cambridge, MA 02138, telephone (617) 496-3702, email pcapone@fas.harvard.edu, by September 10, 2021. After that date, if no additional requestors have come forward, transfer of control of the human remains and associated funerary objects to The Tribes may proceed.

The Peabody Museum of Archaeology and Ethnology, Harvard University is responsible for notifying The Tribes that this notice has been published.

Dated: July 28, 2021.
Melanie O'Brien,
Manager, National NAGPRA Program.

[FR Doc. 2021-17059 Filed 8-10-21; 8:45 am]

BILLING CODE 4312-52-P